DEPARTMENT OF THE INTERIOR

Fish and Wildlife Service

50 CFR Part 17

[Docket No. FWS-HQ-ES-2021-0106; FF09E21000 FXES11110900000212]

Endangered and Threatened Wildlife and Plants; 90-Day Finding for Two Petitions To List the Gray Wolf in the Western United States

AGENCY: Fish and Wildlife Service, Interior.

ACTION: Notification of petition findings and initiation of status reviews.

SUMMARY: We, the U.S. Fish and Wildlife Service (Service), announce a 90-day finding on a petition to add the gray wolf (Canis lupus) in the Northern Rocky Mountains and a petition to add the gray wolf in western North America to the List of Endangered and Threatened Wildlife under the Endangered Species Act of 1973, as amended (Act). Based on our review, we find that the petitions present substantial scientific or commercial information indicating that the petitioned actions may be warranted. Therefore, with the publication of this document, we announce that we plan to initiate a status review to determine whether the petitioned actions are warranted. To ensure that the status review is comprehensive, we are requesting scientific and commercial data and other information regarding the species and factors that may affect its status. Based on the status review, we will issue a 12-month petition finding, which will address whether or not the petitioned actions are warranted, in accordance with the Act.

DATES: The findings announced in this document were made on September 17, 2021. As we commence our status review, we seek any new information concerning the status of, or threats to, the gray wolf, or its habitats in the Northern Rocky Mountains and/or Western United States. Any information we receive during the course of our status review will be considered.

ADDRESSES:

Supporting documents: A summary of the basis for the petition findings contained in this document is available on http://www.regulations.gov in Docket No. FWS-HQ-ES-2021-0106. In addition, this supporting information is available by contacting the person specified in FOR FURTHER INFORMATION CONTACT.

Status reviews: If you have new scientific or commercial data or other information concerning the status of, or threats to, the gray wolf or its habitats in the Northern Rocky Mountains and/or Western United States, please provide those data or information by one of the following methods:

(1) Electronically: Go to the Federal eRulemaking Portal: http://www.regulations.gov. In the Search box, enter the docket number presented above in the document headings. For best results, do not copy this number from this document but instead type it into the Search box using hyphens. Then, click on the “Search” button. After finding the correct document, you may submit information by clicking on “Comment.” If your information will fit in the provided comment box, please use this feature of http://www.regulations.gov, as it is most compatible with our information review procedures. If you attach your information as a separate document, our preferred file format is Microsoft Word. If you attach multiple comments (such as form letters), our preferred format is a spreadsheet in Microsoft Excel.

(2) By hard copy: Submit by U.S. mail to: Public Comments Processing, Attn: FWS-HQ-ES-2021-0106, U.S. Fish and Wildlife Service, MS: PRB/3W, 5275 Leesburg Pike, Falls Church, VA 22041-3803.

We request that you send information only by the methods described above. We will post all information we receive on http://www.regulations.gov. This generally means that we will post any personal information you provide us.

FOR FURTHER INFORMATION CONTACT: Marjorie Nelson, Division Manager, Ecological Services Mountain-Prairie Region, 720-582-3524, marjorie_nelson@fws.gov. If you use a telecommunications device for the deaf, please call the Federal Relay Service at 800-877-8339.

SUPPLEMENTARY INFORMATION:

Background

Section 4 of the Act (16 U.S.C. 1533) and its implementing regulations in title 50 of the Code of Federal Regulations (50 CFR part 424) set forth the procedures for adding species to, removing species from, or reclassifying species on the Federal Lists of Endangered and Threatened Wildlife and Plants (Lists) in 50 CFR part 17. Section 4(b)(3)(A) of the Act requires that we make a finding on whether a petition to add a species to the Lists (i.e., “list” a species), remove a species from the Lists (i.e., “delist” a species), or change a listed species' status from endangered to threatened or from threatened to endangered (i.e., “reclassify” a species) presents substantial scientific or commercial information indicating that the petitioned action may be warranted. To the maximum extent practicable, we are to make this finding within 90 days of our receipt of the petition and publish the finding promptly in the Federal Register.

Our regulations establish that substantial scientific or commercial information with regard to a 90-day petition finding refers to credible scientific or commercial information in support of the petition's claims such that a reasonable person conducting an impartial scientific review would conclude that the action proposed in the petition may be warranted (50 CFR 424.14(h)(1)(i)).

A species may be determined to be an endangered species or a threatened species because of one or more of the five factors described in section 4(a)(1) of the Act (16 U.S.C. 1533(a)(1)). The five factors are:

(a) The present or threatened destruction, modification, or curtailment of its habitat or range (Factor A);

(b) Overutilization for commercial, recreational, scientific, or educational purposes (Factor B);

(c) Disease or predation (Factor C);

(d) The inadequacy of existing regulatory mechanisms (Factor D); and

(e) Other natural or manmade factors affecting its continued existence (Factor E).

These factors represent broad categories of natural or human-caused actions or conditions that could have an effect on a species' continued existence. In evaluating these actions and conditions, we look for those that may have a negative effect on individuals of the species, as well as other actions or conditions that may ameliorate any negative effects or may have positive effects.

We use the term “threat” to refer in general to actions or conditions that are known to, or are reasonably likely to, affect individuals of a species negatively. The term “threat” includes actions or conditions that have a direct impact on individuals (direct impacts), as well as those that affect individuals through alteration of their habitat or required resources (stressors). The term “threat” may encompass—either together or separately—the source of the action or condition, or the action or condition itself. However, the mere identification of any threat(s) may not be sufficient to compel a finding that the information in the petition is substantial information indicating that the petitioned action may be warranted. The information presented in the petition must include evidence sufficient to suggest that these threats may be affecting the species to the point that the species may meet the definition of an endangered species or threatened species under the Act.

If we find that a petition presents such information, our subsequent status review will evaluate all identified threats by considering the individual-, population-, and species-level effects and the expected response by the species. We will evaluate individual threats and their expected effects on the species, then analyze the cumulative effect of the threats on the species as a whole. We also consider the cumulative effect of the threats in light of those actions and conditions that are expected to have positive effects on the species—such as any existing regulatory mechanisms or conservation efforts that may ameliorate threats. It is only after conducting this cumulative analysis of threats and the actions that may ameliorate them, and the expected effect on the species now and in the foreseeable future, that we can determine whether the species meets the definition of an endangered species or threatened species under the Act. If we find that a petition presents substantial scientific or commercial information indicating that the petitioned action may be warranted, the Act requires that we promptly commence a review of the status of the species, and we will subsequently complete a status review in accordance with our prioritization methodology for 12-month findings (81 FR 49248; July 27, 2016).

Summary of Petition Findings

Evaluation of Two Petitions To List the Gray Wolf in the Western United States

Both petitions request listing of a distinct population segment (DPS) for the gray wolf. The gray wolf (Canis lupus) is a recognized species by the Integrated Taxonomic Information System.

Species and Range: Gray wolf in the western United States.

Historical range: Western United States, except Southwest.

Current range: CA, CO, ID, MT, OR, WA, WY.

The petitions include two alternative DPSs for listing the gray wolf in a portion of its range that encompasses the Northern Rocky Mountains and excludes the range of the listed Mexican gray wolf (C. l. baileyi): (1) The Northern Rocky Mountains DPS, or (2) a Western DPS.

Petition History

On June 1, 2021, we received a petition (dated May 26, 2021) from Center for Biological Diversity, the Humane Society of the United States, Humane Society Legislative Fund, and the Sierra Club requesting that the gray wolf in the Northern Rocky Mountains be emergency listed as a threatened species or an endangered species under the Act (first petition). The Act does not provide for a process to petition emergency listing; therefore, we are evaluating this petition under the normal process of determining if it presents substantial scientific or commercial information indicating that the petitioned action may be warranted. On July 29, 2021, we received a new petition (dated July 29, 2021) from Western Watersheds Project and 70 other organizations requesting that the gray wolf in western North America be listed as an endangered species under the Act (second petition). On August 10, 2021, we received an addendum (dated August 9, 2021) to the second petition. Both petitions clearly identified themselves as such and included the requisite identification information for the petitioner, required at 50 CFR 424.14(c). This finding addresses both petitions.

Evaluation of Information Summary and Finding

We reviewed the petitions, sources cited in the petitions, and other readily available information. We considered the factors under section 4(a)(1) and assessed the effect that the threats identified within the factors—as may be ameliorated or exacerbated by any existing regulatory mechanisms or conservation efforts—may have on the species now and in the foreseeable future. Based on our review of the petitions and readily available information regarding human-caused mortality, we find that the petitioners present credible and substantial information that human-caused mortality (Factor B) may be a potential threat to the species in Idaho and Montana. These two States include approximately 75 percent of gray wolves in a potential Northern Rocky Mountains or Western DPS. The petitioners also provide credible and substantial information that new regulations in these two States may be inadequate to address this potential threat (Factor D). Therefore, we find that the petitions present substantial information indicating that the petitioned action may be warranted in a Northern Rocky Mountains or Western DPS. The petitioners also presented information suggesting that habitat modification due to a reduced prey base (Factor A), disease (Factor C), and loss of genetic diversity caused by isolation and small population size (Factor E) may be threats to the gray wolf. We will fully evaluate these and all other potential threats, as well as the validity of each DPS, in detail based on the best scientific and commercial data available when we conduct the status assessment and make the 12-month finding.

The basis for our finding on these petitions, and other information regarding our review of the petitions, can be found as an appendix at http://www.regulations.gov under Docket No. FWS-HQ-ES-2021-0106 under the Supporting Documents section.

Conclusion

On the basis of our evaluation of the information presented in the petitions under sections 4(b)(3)(A) and 4(b)(3)(D)(i) of the Act, we have determined that the petitions summarized above for the gray wolf present substantial scientific or commercial information indicating that the petitioned actions may be warranted. We are, therefore, initiating a status review of the species to determine whether the actions are warranted under the Act. At the conclusion of the status review, we will issue a finding, in accordance with section 4(b)(3)(B) of the Act, as to whether the petitioned actions are not warranted, warranted, or warranted but precluded by pending proposals to determine whether any species is an endangered species or a threatened species.

Authors

The primary authors of this document are staff members of the Ecological Services Program, U.S. Fish and Wildlife Service.

Authority

The authority for these actions is the Endangered Species Act of 1973, as amended (16 U.S.C. 1531 et seq.).

Gary Frazer,
Assistant Director, Ecological Services, U.S. Fish and Wildlife Service.

[FR Doc. 2021-20088 Filed 9-16-21; 8:45 am]

BILLING CODE 4333-15-P